DEPARTMENT OF THE INTERIOR

U.S. Geological Survey

Federal Geographic Data Committee (FGDC); Public Review of the Address Data Content Standard

ACTION: Notice; request for comments.

SUMMARY: The FGDC is conducting a public review of the draft Address Data Content Standard. An interagency team under the FGDC Subcommittee on Cultural & Demographic Data developed this draft standard over several years and the FGDC Coordination Group comprised of representatives from Federal agencies approved releasing this standard for public review. The FGDC invites software vendors and data users and producers in public and private sectors to comment on this standard to ensure that the standard meets their needs.

Comments that address specific issues/changes/additions may result in revisions to the draft NSDI Address Data Content Standard. After comments have been evaluated, participants will receive notification of how their comments were addressed. After formal endorsement of the standard by the FGDC, the standard and a summary analysis of the changes will be made available to the public.

DATES: Comments must be received on or before June 22, 2001.

ADDRESSES: The draft standard may be downloaded via Internet address http://www.fgdc.gov/standards/status/sub2_4.html

Request for printed copies of the standard should be addressed to “Address Data Content Standard,” FGDC Secretariat (attn: Julie Binder Maitra), U.S. Geological Survey, 590 National Center, 12201 Sunrise Valley Drive, Reston, Virginia 20192 or facsimile 703-648-5755 or Internet at jmaitra@usgs.gov.

Reviewer's comments may be sent to FGDC via Internet mail to gdc-address@ www.fgdc.gov. Reviewer's comments may also be sent to the FGDC Secretariat at the above postal address. Please send one hardcopy version of the comments and a softcopy version on 3.5-inch diskette in Microsoft Word or Rich Text Format. All reviewers are strongly urged to use the template for sending comments that may be downloaded from Internet address http://www.fgdc.gov/standards/directives/dir2d.html

SUPPLEMENTARY INFORMATION: Following is information about the draft Address Data Content Standard, submitted by the FGDC Subcommittee on Cultural and Demographic Data (SCDD):

Addresses are widely used by many organizations. Addresses reference and uniquely identify particular points of interest, are used to access and deliver information to specific locations, and can serve as the basis for aggregating data by location.

Many organizations maintain address lists or have databases and datasets that contain addresses. Organizations typically have detailed specifications about the structure of their address information but documentation about the content of the address information is limited. Knowledge of both structure and content is required to successfully share information.

The purpose of this standard is to facilitate the sharing of address information. The Address Data Content Standard (the Standard) accomplishes this by providing a method for documenting the content of address information and simplifies the documentation process by recognizing some commonly used discrete units of address information.

Objective: The objective of the Standard is to provide a method for documenting the content of address information. The Standard is a Federal Geographic Data Committee (FGDC) data usability standard. Data usability standards describe how to express the applicability or essence of a dataset or data element and include data quality, assessment, accuracy, and reporting or documentation standards.

The Standard additionally standardizes some commonly used discrete units of address information, referred to as “descriptive elements”. It provides standardized terms and their definitions to alleviate inconsistencies in the use of the descriptive elements and to simplify the documentation process.

Scope: The Standard establishes the requirements for documenting the content of addresses.

The Standard is applicable to addresses that reference and uniquely identify particular points of interest. The standard is applicable to the following address types: geographic, mailing, or physical. It specifically excludes electronic addresses.

The Standard is applicable to shared addresses. The Standard does not require addresses be shared and does not provide guidelines for determining whether addresses can be shared. Some organizations cannot share addresses or some part of address information due to requirements for confidentiality and security. However, the principles of the Standard can be extended to all addresses, including addresses maintained within an organization that are not shared.

Applicability: Data producers or maintainers shall comply with the requirements of the Standard when they share their address information with data users.

The Standard places no requirement on internal organization use of address data.

Dated: April 11, 2001.
Karen Siderelis,
Geographic Information Officer.

[FR Doc. 01-9768 Filed 4-19-01; 8:45 am]

BILLING CODE 4310-Y7-M